DEPARTMENT OF TRANSPORTATION

Coast Guard

33 CFR Part 117

[CGD01-00-127]

Drawbridge Operation Regulations: Fore River, MA

AGENCY: Coast Guard, DOT.

ACTION: Notice of temporary deviation from regulations.

SUMMARY: The Commander, First Coast Guard District has issued a temporary deviation from the existing drawbridge regulations for the Quincy Weymouth SR3A Bridge, mile 3.5, across the Fore River between Quincy and Weymouth, Massachusetts. This deviation allows the bridge owner to keep the bridge in the closed position for 4 hours, 8 a.m. to 12 p.m., on May 6, 2000. This deviation is necessary to facilitate necessary repairs to the bridge.

DATES: This deviation is effective on May 6, 2000.

FOR FURTHER INFORMATION CONTACT: Mr. John McDonald, Project Officer, First Coast Guard District, (617) 223-8364.

SUPPLEMENTARY INFORMATION: The Quincy Weymouth SR3A Bridge has a vertical clearance of 33 feet at mean high water and 43 feet at mean low water. The existing regulations for the bridge in 33 CFR 117.621 require the bridge to open on signal, except that; from 6:30 a.m. to 9 a.m. and 4:30 p.m. to 6:30 p.m., Monday through Friday, except holidays observed in the locality, the draw need not be opened. The draw shall open on signal at all times for self-propelled vessels greater than 10,000 gross tons.

The bridge owner, the Massachusetts Highway Department (MHD), asked the Coast Guard to allow the bridge to remain closed on May 6, 2000, from 8 a.m. to 12 p.m. to facilitate electrical repairs at the bridge.

In accordance with 33 CFR 117.35(c), this work will be performed with all due speed in order to return the bridge to normal operation as soon as possible. This deviation is authorized under 33 CFR 117.35.

Dated: April 24, 2000.
Robert F. Duncan,
Captain, U.S. Coast Guard, Acting Commander, First Coast Guard District.

[FR Doc. 00-10945 Filed 5-2-00; 8:45 am]

BILLING CODE 4910-15-U